SMALL BUSINESS ADMINISTRATION

[Declaration of Disaster #3500]

State of Alabama; Amendment #3

In accordance with a notice received from the Department of Homeland Security—Federal Emergency Management Agency, effective May 30, 2003, the above numbered declaration is hereby amended to establish the incidence period for this disaster as beginning on May 5, 2003 and continuing through May 30, 2003.

All other information remains the same, i.e., the deadline for filing applications for physical damage is July 11, 2003, and for economic injury the deadline is February 12, 2004.

(Catalog of Federal Domestic Assistance Program Nos. 59002 and 59008)
Dated: June 3, 2003.
Herbert L. Mitchell,
Associate Administrator for Disaster Assistance.

[FR Doc. 03-14441 Filed 6-6-03; 8:45 am]

BILLING CODE 8025-01-P